DEPARTMENT OF ENERGY

[Docket No. EA-298]

Application To Export Electric Energy; ISO New England Inc.

AGENCY: Office of Fossil Energy, DOE.

ACTION: Notice of application.

SUMMARY: ISO New England Inc. (ISO-NE) has applied for authority to transmit electric energy from the United States to Canada pursuant to section 202(e) of the Federal Power Act.

DATES: Comments, protests or requests to intervene must be submitted on or before November 29, 2004.

ADDRESSES: Comments, protests or requests to intervene should be addressed as follows: Office of Coal & Power Systems (FE-27), Office of Fossil Energy, U.S. Department of Energy, 1000 Independence Avenue, SW., Washington, DC 20585-0350 (FAX 202-287-5736).

FOR FURTHER INFORMATION CONTACT: Ellen Russell (Program Office) 202-586-9624 or Michael Skinker (Program Attorney) 202-586-2793.

SUPPLEMENTARY INFORMATION: Exports of electricity from the United States to a foreign country are regulated and require authorization under section 202(e) of the Federal Power Act (FPA) (16 U.S.C. 824a(e)).

On October 4, 2004, the Office of Fossil Energy (FE) of the Department of Energy (DOE) received an application from ISO-NE to transmit electric energy from the United States to Canada. ISO-NE is the private, non-profit Independent System Operator for New England. ISO-NE administers the New England electricity markets and operates the bulk electric power system in the New England region. ISO-NE is responsible for protecting the short-term reliability of the New England control area, for administering competitive and efficient wholesale markets in New England, and for administering the New England Power Pool (NEPOOL) Open Access Transmission Tariff on behalf of the NEPOOL participants.

In its role as control area operator, ISO-NE administers electricity transactions entered into by the NEPOOL participants and is responsible for scheduling transmission service over the bulk power transmission and generating facilities in New England. The electricity transactions administered by ISO-NE include electricity exports to Canadian entities.

On March 24, 2004, the Federal Energy Regulatory Commission (FERC) issued an order granting Regional Transmission Organization (RTO) status to ISO-NE, subject to the fulfillment of certain requirements. In accordance with that order, ISO-NE will become the RTO for New England in the near future. In its application, ISO-NE states that commencement of its operations as the RTO will not have any substantive effect on the way it will administer electricity exports to Canada. In that regard, ISO-NE has requested that, if DOE grants its request in this proceeding, any order issued by DOE explicitly recognize the impending commencement of ISO-NE's operations as an RTO and provide for the continuation of its export authority once that conversion to an RTO occurs.

In its application ISO-NE requested that DOE expedite the processing of this application in order to have electricity export authority in place upon completion of the transition to the FERC-approved RTO. Accordingly, DOE has shortened the public comment period to 15 days.

ISO-NE proposes to arrange for the delivery of electric energy to Canada over the existing international transmission facilities owned by Joint Owners of the Highgate Project, Maine Electric Power Company and Vermont Electric Transmission Company. The construction, operation, maintenance, and connection of each of the international transmission facilities to be utilized by ISO-NE, as more fully described in the application, has previously been authorized by a Presidential permit issued pursuant to Executive Order 10485, as amended.

Procedural Matters

Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with DOE on or before the date listed above.

Comments on the ISO-NE application to export electric energy to Canada should be clearly marked with Docket EA-298. Additional copies are to be filed directly with James H. Douglass, Senior Regulatory Counsel, ISO New England Inc., One Sullivan Road, Holyoke, MA 01040-2841 and Perry D. Robinson, Ballard Spahr Andrews & Ingersoll, LLP, 601 13th Street, NW., Suite 1000 South, Washington, DC 20005.

A final decision will be made on this application after the environmental impacts have been evaluated pursuant to the National Environmental Policy Act of 1969, and a determination is made by the DOE that the proposed action will not adversely impact on the reliability of the U.S. electric power supply system.

Copies of this application will be made available, upon request, for public inspection and copying at the address provided above or by accessing the Fossil Energy Home Page at http://www.fe.de.gov. Upon reaching the Fossil Energy Home page, select “Electricity Regulation,” and then “Pending Proceedings” from the options menus.

Issued in Washington, DC, on November 8, 2004.
Anthony J. Como,
Deputy Director, Electric Power Regulation, Office of Fossil Energy.

[FR Doc. 04-25201 Filed 11-10-04; 8:45 am]

BILLING CODE 6450-01-P